DEPARTMENT OF COMMERCE

National Oceanic and Atmospheric Administration

RIN 0648-XD428

Gulf of Mexico Fishery Management Council (Council); Public Meetings

AGENCY: National Marine Fisheries Service (NMFS), National Oceanic and Atmospheric Administration (NOAA), Commerce.

ACTION: Notice of public meetings of the Gulf of Mexico Fishery Management Council.

SUMMARY: The Gulf of Mexico Fishery Management Council (Council) will hold meetings of the: Budget/Personnel, Administrative Policy, Red Drum, Reef Fish, Shrimp and Data Collection Management Committees; in conjunction with a meeting of the Full Council. The Council will hold a closed session. The Council will also hold a formal public comment session.

DATES: The Council meeting will be held from 1 p.m. on Monday, August 25 until 4:15 p.m. on Thursday, August 28, 2014.

ADDRESSES: Meeting Address: The meeting will be held at the Beau Rivage Resort & Casino located at 875 Beach Boulevard, Biloxi, MS 39530; (228) 386-7111.

Council Address: Gulf of Mexico Fishery Management Council, 2203 North Lois Avenue, Suite 1100, Tampa, FL 33607.

FOR FURTHER INFORMATION CONTACT: Mr. Douglas Gregory, Executive Director, Gulf of Mexico Fishery Management Council; telephone: (813) 348-1630; fax: (813) 348-1711; email: doug.gregory@gulfcouncil.org.

SUPPLEMENTARY INFORMATION: The items of discussion for each individual management committee agenda are as follows:

Budget/Personnel Administrative Committee Agenda, Monday, August 25, 2014, 1 p.m. Until 2 p.m.

1. Review and Approval of Multi-year Budget 2015-19

Administrative Policy Administrative Committee Agenda, Monday, August 25, 2014, 2 p.m. Until 4 p.m.

1. Discussion of Advisory Panel and Scientific and Statistical Committee Structure and Appointment Process

2. Discussion of Draft SOPPs Revisions

Red Drum Management Committee Agenda, Monday, August 25, 2014, 4 p.m. Until 5 p.m.

1. Review of Scoping Document for Recreational Red Drum Management

Full Council, CLOSED SESSION, Monday, August 25, 2014; 5 p.m. Until 5:30 p.m.

1. Appointments to the SEDAR Workshop Advisory Panel

—Recess—

Reef Fish Management Committee Agenda, Tuesday, August 26, 2014, 8:30 a.m. Until 5:30 p.m.

1. Discussion of Gag OFL and ABC

2. Final Action—Red Snapper Accountability Measures Framework Action

3. Review of the Socioeconomic SSC Summary

4. Discussion of Amendment 40—Recreational Red Snapper Sector Separation Revised Public Hearing Draft

5. Review of Draft Greater Amberjack ACL/ACT Framework Action

6. Review of Draft Red Grouper Bag Limit and Accountability Measures Framework Action

7. Discussion of IFQ Updates

8. Summary of the South Florida Regional Management Issues Meeting

9. Summaries of 2014 State Red Snapper Recreational Sampling Programs

10. Discussion of ABC Control Rule Revisions

11. Review of the Reef Fish Scientific and Statistical Committee Summary

12. Review of the Reef Fish Advisory Panel Summary

13. Review of the Red Snapper Advisory Panel Summary

—Recess—

Reef Fish Management Committee Agenda, Wednesday, August 27, 2014, 8:30 a.m. Until 10:30 a.m.

1. Continuation of Reef Fish Committee agenda

Shrimp Management Committee, Wednesday, August 27, 2014, 10:30 a.m. Until 11:30 a.m.

1. Review of Public Hearing Draft for Shrimp Amendment 16—Adjustments to the Annual Catch Limit and Accountability Measures for Royal Red Shrimp

2. SSC Recommendations on Public Hearing Draft Shrimp Amendment 15—Status Determination Criteria for Penaeid Shrimp and Adjustments to the Shrimp Framework Procedure

Data Collection Management Committee, Wednesday, August 27, 2014, 11:30 a.m. Until 12 p.m.

1. Commercial Electronic Log Pilot Program Update

—Recess—

Council Session Agenda, Wednesday, August 27, 2014, 1:30 p.m. Until 8:30 p.m.

1:30 p.m.-1:45 p.m.: Call to Order and Introductions, Adoption of Agenda, and Approval of Minutes

1:45 p.m.-4:45 p.m.: The Council will receive presentations on National Recreational Policy, Red Snapper Federal Violations, Individual Fishing Quota (IFQ) Undercover Operation, New Cooperative Research Effort, and an update on the RESTORE Act Science Program.

—Recess—

5:30 p.m.-8:30 p.m.: The Council will receive public testimony on Final Action—To Establish Recreational Accountability Measures for Red Snapper, Revised Public Hearing Draft Reef Fish Amendment 40—Sector Separation, and Public Hearing Draft Shrimp Amendment 15 to the Shrimp Status Determination Criteria for Penaeid Shrimp and Adjustments to the Shrimp Framework Procedure, and open testimony on any other fishery issues or concerns. People wishing to speak before the Council should complete a public comment card prior to the comment period. The Council will also review and vote on Exempted Fishing Permits (EFP), if any.

—Recess—

Council Session Agenda, Thursday, August 28, 2014, 8:30 a.m. Until 4:15 p.m.

8:30 a.m.-8:45 a.m.: The Council will receive a committee report from the Budget/Personnel Administrative Committee.

8:45 a.m.-9:45 a.m.: The Council will receive a committee report from the Administrative Committee.

9:45 a.m. -10:15 a.m.: The Council will receive a committee report from the Red Drum Management Committee.

10:15 a.m.-10:45 a.m.: The Council will receive a committee report from the Shrimp Management Committee.

10:45 a.m.-11 a.m.: The Council will receive a committee report from the Data Collection Administrative Committee.

11 a.m.-11:30 a.m.: The Council will review Other Business items; 2013/2014 Spiny Lobster Landings.

—Recess—

1 p.m.-4 p.m.: The Council will receive a committee report from the Reef Fish Management Committee.

4 p.m.-4:15 p.m.: The Committee will hold the Election of the Chair and Vice Chair.

—Adjourn—

The Agenda is subject to change, and the latest version will be posted on the Council's file server, which can be accessed by going to the Council Web site at http://www.gulfcouncil.org and clicking on FTP Server under Quick Links. For meeting materials see folder “Briefing Books/Briefing Book 2014-08” on Gulf Council file server. The username and password are both “gulfguest”. The meetings will be webcast over the Internet. A link to the webcast will be available on the Council's Web site, http://www.gulfcouncil.org.

Although non-emergency issues not contained in this agenda may come before this group for discussion, those issues may not be the subject of formal action during these meetings. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to Kathy Pereira at the Council Office (see ADDRESSES), at least 5 working days prior to the meeting.

Note: The times and sequence specified in this agenda are subject to change.

Authority: 16 U.S.C. 1801 et seq.

Dated: August 5, 2014.
Tracey L. Thompson,
Acting Deputy Director, Office of Sustainable Fisheries, National Marine Fisheries Service.

[FR Doc. 2014-18783 Filed 8-7-14; 8:45 am]

BILLING CODE 3510-22-P